DEPARTMENT OF ENERGY

Federal Energy Regulatory Commission

[Docket No. EG04-47-000, et al.]

Curtis/Palmer Hydroelectric Company L.P., et al.; Electric Rate and Corporate Filings

April 13, 2004.

The following filings have been made with the Commission. The filings are listed in ascending order within each docket classification.

1. Curtis/Palmer Hydroelectric Company L.P.

[Docket No. EG04-47-000]

On April 5, 2004, Curti/Palmer Hydroelectric Company L.P., filed with the Federal Energy Regulatory Commission an application for determination of exempt wholesale generator status pursuant to part 365 of the Commission's regulations. Curtis/Palmer Hydroelectric Company L.P., states that it is a New York limited partnership that owns a generation facility near Corinth, New York.

Comment Date: April 26, 2004.

2. TransCanada Power, L.P.

[Docket No. EG04-48-000]

On April 5, 2004, TransCanada Power, L.P., filed with the Federal Energy Regulatory Commission an application for determination of exempt wholesale generator status pursuant to part 365 of the Commission's regulations. TransCanada Power, L.P., states that it is an Ontario limited partnership that will indirectly wholly own a generation Facility near Brush, Colorado and a hydroelectric Facility near Corinth, New York.

Comment Date: April 26, 2004.

3. Manchief Power Company LLC

[Docket No. EG04-49-000]

On April 5, 2004, Manchief Power Company LLC, filed with the Federal Energy Regulatory Commission an application for determination of exempt wholesale generator status pursuant to part 365 of the Commission's regulations. Manchief Power Company LLC states that it is a Delaware limited liability company that owns a generation facility near Brush, Colorado.

Comment Date: April 26, 2004.

4. TransCanada Power L.P. USA Ltd.

[Docket No. EG04-50-000]

On April 5, 2004, TransCanada Power L.P. USA Ltd., filed with the Federal Energy Regulatory Commission an application for determination of exempt wholesale generator status pursuant to part 365 of the Commission's regulations. TransCanada Power, L.P. USA Ltd., states that it is a Delaware corporation that will indirectly own a generation Facility near Bush, Colorado and a hydroelectric Facility near Corinth, New York.

Comment Date: April 26, 2004.

5. TC Power (Castleton) Ltd.

[Docket No. EG04-51-000]

On April 5, 2004, TC Power (Castleton) Ltd., filed with the Federal Energy Regulatory Commission an application for determination of exempt wholesale generator status pursuant to part 365 of the Commission's regulations. TC Power (Castleton) Ltd., states that it is a Canadian corporation incorporated pursuant to the laws of Alberta that owns a generation facility near Castleton-on-Hudson, New York.

Comment Date: April 26, 2004.

6. Midwest Independent Transmission System Operator, Inc., et al.; Ameren Services Company, et al.

[Docket Nos. EL02-111-014 and EL03-212-011]

Take notice that on April 5, 2004, Ameren Services Company (Ameren) filed revisions to its open access transmission tariff (OATT) to comply with the Commission's order issued March 19, 2004 in Midwest Independent Transmission System Operator, Inc., et al., Docket No. EL02-111-004 and Ameren Services Company, et al., Docket No. EL03-212-002.

Ameren states that it has served electronic copies of this filing on all of the parties listed on the official service lists maintained in Docket Nos. EL02-111-000 and EL03-212-000, the Missouri Public Service Commission and the Illinois Commerce Commission.

Comment Date: April 26, 2004.

7. Midwest Independent Transmission System Operator, Inc. and PJM Interconnection, L.L.C.

[Docket No. EL02-111-015]

Take notice that on April 5, 2004, PJM Interconnection, L.L.C., (PJM) on behalf of itself and the Transmission Owners Agreement Administrative Committee, filed revisions to its Open Access Transmission Tariff, in compliance with the Commission's Order Accepting Agreement Establishing Going-Forward Principles and Procedures, and Extending Dates, issued on March 19, 2004, in Docket No. EL02-111-045,106 FERC ¶ 61,260 (2004). PJM states that the compliance tariff sheets have an effective date of May 1, 2004.

PJM states that copies of this filing have been served on all PJM members and utility regulatory commissions in the PJM Region and on all parties listed on the official service list compiled by the Secretary in this proceeding.

Comment Date: April 26, 2004.

8. Midwest Independent Transmission System Operator, Inc.

[Docket Nos. EL02-111-016 and EL03-212-014]

Take notice that on April 5, 2004, Midwest Independent Transmission System Operator, Inc. (Midwest ISO) submitted for filing revisions to its Open Access Transmission Tariff in response to the Commission's March 19, 2004, Order in the above-captioned dockets, to become effective as of December 1, 2004.

The Midwest ISO has also requested waiver of the service requirements set forth in 18 CFR 385.2010. The Midwest ISO has electronically served a copy of this filing, with attachments, upon all Midwest ISO Members, Member representatives of Transmission Owners and Non-Transmission Owners, the Midwest ISO Advisory Committee participants, as well as all state commissions within the region. In addition, the filing has been electronically posted on the Midwest ISO's Web site at www.midwestiso.org under the heading “Filings to FERC” for other interested parties in this matter. The Midwest ISO will provide hard copies to any interested parties upon request.

Comment Date: April 26, 2004.

9. American Electric Power Service Corporation, Commonwealth Edison Company and Commonwealth Edison Company of Indiana, Inc., and Dayton Power and Light Company

[Docket No. EL03-212-005]

Take notice that on April 5, 2004, American Electric Power Service Corporation on behalf of Appalachian Power Service Company, Columbus Southern Power Company, Indiana Michigan Power Company, Kentucky Power Company, Kingsport Power Company, Ohio Power Company and Wheeling Power Company (AEP), Commonwealth Edison Company and Commonwealth Edison Company of Indiana, Inc. (ComEd), and Dayton Power and Light Company (DP&L) (Companies) submitted a notice of withdrawal of compliance filings submitted previously in this proceeding on January 2, 2004, and February 25, 2004. The Companies state that they are withdrawing these compliance filings because the filings have been superseded by the Commission's Order in this proceeding on March 19, 2004, Midwest Independent Transmission System Operator, et al., 106 FERC ¶ 61,260 (2004), and by a compliance filing in response to the March 19 Order filed by PJM on behalf of the Companies and the PJM Transmission Owners Agreement Administrative Committee.

AEP, ComEd and DP&L state that they have served copies of this filing on all parties on the Commission's official service list for this proceeding.

Comment Date: April 26, 2004.

10. Illinois Power Company

[Docket No. EL03-212-013]

Take notice that on April 5, 2004, Illinois Power Company (IPC) filed revisions to Schedules 7 and 8 of its Open Access Transmission Tariff to comply with the order accepting the Going Forward Principles and Procedures that the Commission issued in Docket Nos. EL02-111-004 and EL03-212-002 on March 19, 2004, 106 FERC ¶ 61,262 (2004). IPC states that the revisions are to become effective on December 1, 2004.

Comment Date: April 26, 2004.

11. W.E. Power LLC, and Elm Road Generating Station Supercritical, LLC

[Docket No. EL04-96-000]

Take notice that on April 7, 2004, W.E. Power LLC (W.E. Power) and Elm Road Generating Station Supercritical, LLC (the Project Company) pursuant to section 207 of the Commission's rules of practice and procedure, 18 CFR 385.207 (2003), filed a Petition for Declaratory Order requesting the Commission to find that W.E. Power and the Project Company are not public utilities under section 201(e) of the Federal Power Act, 16 U.S.C. 824(e).

Comment Date: April 26, 2004.

12. Allegheny Power

[Docket No. ER02-136-006]

Take notice that on April 8, 2004, West Penn Power Company doing business as Allegheny Power (Allegheny Power) filed with the Commission a compliance filing as required by the Commission's Opinion No. 469 issued March 9, 2004, in Docket No. ER02-136-004.

Comment Date: April 29, 2004.

13. Pacific Gas and Electric Company

[Docket Nos. ER03-409-002 and ER03-666-002]

Take notice that on April 8, 2004, Pacific Gas and Electric Company (PG&E) submitted a refund compliance filing in response to the Commission(s Opinion No. 470, issued March 9, 2004, in Docket Nos. ER03-409-001 and ER03-666-001.

PG&E states that copies of this filing have been served upon the California Independent System Operator Corporation (CAISO), Scheduling Coordinators registered with the CAISO, the California Public Utilities Commission and parties to the official service lists in the affected dockets.

Comment Date: April 29, 2004.

14. Devon Power LLC, Middletown, Power LLC, Montville Power LLC, Norwalk Power LLC and NRG Power Marketing Inc.

[Docket No. ER03-563-032]

Take notice that on April 7, 2004, Devon Power LLC, Middletown Power LLC, Montville Power LLC, and Norwalk Power LLC (collectively Applicants) tendered for filing True-Up Schedules to the Cost-of-Service Agreements entered into between Applicants and ISO New England Inc. (ISO-NE).

Applicants state that they have provided copies of this filing to ISO-NE and served each person designated on the official service list compiled by the Secretary in this proceeding.

Comment Date: April 29, 2004.

15. Gilroy Energy Center, LLC

[Docket No. ER04-321-002]

Take notice that on April 8, 2004, Gilroy Energy Center, LLC (Gilroy) submitted a compliance filing containing revised rate schedule sheets to the Amended and Restated Must-Run Service Agreement between Gilroy and the California Independent System Operator Corporation, pursuant to the Commission's March 24, 2004, Order in this proceeding, 106 FERC ¶ 61,270 (2004).

Gilroy states that copies of the filing have been served upon each person designated on the official service list compiled by the Secretary in these proceedings.

Comment Date: April 29, 2004.

16. New York Independent System Operator, Inc.

[Docket No. ER04-449-001]

Take notice that on April 8, 2004, the New York Independent System Operator, Inc. (NYISO) and the New York Transmission Owners (collectively, the Joint Filing Parties) filed a Motion to Supplement Joint Compliance Filing submitted by the Joint Filing Parties on January 20, 2004.

The Joint Filing Parties state that a copy of this filing has been served upon all parties in Docket No. ER04-449-000.

Comment Date: April 19, 2004.

17. Pacific Gas and Electric Company

[Docket No. ER04-484-002]

Take notice that on April 7, 2004, Pacific Gas and Electric Company (PG&E) tendered this filing in compliance with the Commission's order issued March 18, 2004, in Docket Nos. ER04-484-000 and ER04-484-001.

PG&E states that copies of this filing have been served upon the California Independent System Operator Corporation (CAISO), Hercules Municipal Utility, and the California Public Utilities Commission.

Comment Date: April 28, 2004.

18. CMS Energy Resource Management Company

[Docket No. ER04-543-001]

Take notice that on April 8, 2004, CMS Energy Resource Management Company (CMS ERM) submitted for filing a revised power marketing tariff together with an appendix to implement market behavior rules. CMS states that this filing is intended to change the name of the entity on their existing power marketing tariff, and to engraft the Commission approved market behavior rules into the tariff.

Comment Date: April 29, 2004.

19. Northeast Utilities Service Company

[Docket No. ER04-720-000]

Take notice that on April 8, 2004, Northeast Utilities Service Company (NUSCO), on behalf of the Connecticut Light and Power Company, Western Massachusetts Electric Company, Holyoke Water Power Company, and Public Service Company of New Hampshire, submitted pursuant to section 205 of the Federal Power Act and part 35 of the Commission's regulations, Notices of Cancellation of the rate schedules for sales of electricity to the City of Chicopee, Massachusetts, Municipal Light Plant (Chicopee) and the City of Holyoke Gas & Electric Department (Holyoke). NUSCO requests that the rate schedule cancellations be effective as of October 31, 2004, the date on which the rate schedules terminated by their own terms.

NUSCO states that a copy of this filing has been mailed to Chicopee, Holyoke and Select Energy, Inc.

Comment Date: April 28, 2004.

20. Pacific Gas and Electric Company

[Docket No. ER04-721-000]

Take notice that on April 8, 2004, Pacific Gas and Electric Company (PG&E) pursuant to section 205 of the Federal Power Act, 16 U.S.C. 824d, and section 35.13(a)(2)(iii) of the regulations of the Commission, 18 CFR 35.13(a)(2)(iii), filed an Amendment to the existing Interconnection Agreement under Service Agreement No. 12, PG&E Electric Tariff, First Revised Volume No. 4 between Pacific Gas and Electric Company and Port of Stockton (Port).

PG&E states that copies of the filing have been served upon each person designated on the official service list compiled by the Secretary in Docket No. ER03-947-000.

Comment Date: April 29, 2004.

21. Sierra Pacific Power Company and Nevada Power Company

[Docket No. ER04-722-000]

Take notice that on April 8, 2004, Nevada Power Company and Sierra Pacific Power Company (the Nevada Companies) tendered for filing revisions to its Open Access Transmission Tariff (OATT) with respect to the Large Generator Interconnection Procedures and Large Generator Interconnection Agreement pro forma requirements issued by the Commission in FERC Order Nos. 2003 and 2003-A. The Nevada Companies request an effective date of June 7, 2004, for implementation of the requested changes.

The Nevada Companies state that copies of this letter have been served on all Nevada Company OATT customers, and the State public utility commissions of Nevada and California.

Comment Date: April 29, 2004.

22. Arizona Public Service Company

[Docket No. ER04-723-000]

Take notice that on April 8, 2004, Arizona Public Service Company (APS) tendered for filing revisions to its Open Access Transmission Tariff (OATT) with respect to the Large Generator Interconnection Procedures and Large Generator Interconnection Agreement pro forma requirements issued by the Commission in FERC Order Nos. 2003 and 2003-A. APS requests an effective date of June 7, 2004, for implementation of the requested changes.

APS state that copies of this letter have been served on all OATT customers and the Arizona Corporation Commission.

Comment Date: April 29, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-896 Filed 4-20-04; 8:45 am]

BILLING CODE 6717-01-P